DEPARTMENT OF HEALTH AND HUMAN SERVICES

Agency for Healthcare Research and Quality

Notice of Senior Executive Service Performance Review Board Membership

The Agency for Healthcare Research and Quality (AHRQ) announces the appointment of members of the AHRQ Senior Executive Service (SES) Performance Review Board (PRB). This action is being taken in accordance with Title 5, U.S.C., 4314(c)(4) of the Civil Service Reform Act of 1978, which requires members of the performance review boards to be published in the Federal Register.

The function of the PRB is to ensure consistency, stability and objectivity in SES performance appraisals, and to make recommendations to the Director, AHRQ, relating to the performance of senior executives in the Agency.

The following persons will serve on the AHRQ SES Performance Review Board:

Bill Beldon

Helen Burstin

Francis Chesley

Steven Cohen

J. Michael Fitzmaurice

Irene Fraser

Robert Graham

Kathleen Kendrick

Anna Marsh

Robert McSwain

Jean Slutsky

Christine Williams

Phyllis Zucker

For further information about the AHRQ Performance Review Board, contact Jeffrey Toven, Office of Performance, Accountability, Resources, and Technology, Agency for Healthcare Research and Quality, 540 Gaither Road, Suite 4329, Rockville, Maryland 20850.

Dated: November 4, 2004.
Carolyn M. Clancy,
Director, AHRQ.

[FR Doc. 04-24998 Filed 11-9-04; 8:45 am]

BILLING CODE 4160-90-M